FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

ETDate | Trans No. | ET Req status | Party name
Transaction Granted Early Termination
05-OCT-09 | 20090758 | G | Adobe Systems Incorporated.
|  | G | Omniture, Inc.
|  | G | Omniture, Inc.
07-OCT-09 | 20090780 | G | Aurora Equity Partners III, LP.
|  | G | HLTH Corporation.
|  | G | Porex Corporation.
| 20090786 | G | American Securities Partners V. L.P.
|  | G | GenTek Inc.
|  | G | GenTek Inc.
08-OCT-09 | 20090768 | G | AstraZeneca plc.
|  | G | Nektar Therapeutics.
|  | G | Nektar Therapeutics.
09-OCT-09 | 20090707 | G | Alamo Group Inc.
|  | G | Henry Crown and Company.
|  | G | Bush Hog, LLC.
| 20090764 | G | SAS Rue La Boetie.
|  | G | Societe Generale.
|  | G | The TCW Group, Inc.
| 20090794 | G | SteelRiver Infrastructure Fund North America LP.
|  | G | Dominion Resources, Inc.
|  | G | Hope Gas, Inc.
|  | G | The Peoples Natural Gas Company.
| 20090796 | G | Comcast Corporation.
|  | G | William A. Capraro, Jr.
|  | G | CIMCO Communications, Inc.
|  | G | Capraro Development, LLC.
| 20100002 | G | Institutional Venture Partners XII, L.P.
|  | G | Twitter, Inc.
|  | G | Twitter, Inc.
13-OCT-09 | 20090738 | G | Syniverse Holdings, Inc.
|  | G | VeriSign, Inc.
|  | G | VeriSign ICX Corporation.
| 20090739 | G | NYSE Euronext.
|  | G | NYFIX, Inc.
|  | G | NYFIX, Inc.
| 20090791 | G | J&F Participacoes S.A.
|  | G | Lonnie A. “Bo” Pilgrim.
|  | G | Pilgrim's Pride Corporation.
| 20090795 | G | Adage Capital Partners, L.P.
|  | G | AMAG Pharmaceuticals, Inc.
|  | G | AMAG Pharmaceuticals, Inc.
14-OCT-09 | 20090325 | G | Pfizer Inc.
|  | G | Wyeth.
|  | G | Wyeth.
15-OCT-09 | 20090763 | G | Abbott Laboratories, Inc.
|  | G | Visiogen Inc.
|  | G | Visiogen Inc.
19-OCT-09 | 20100006 | G | Exterran Partners, LP.
|  | G | Exterran Holdings, Inc.
|  | G | Exterran Energy Solutions, L.P.
| 20100009 | G | Great Hill Equity Partners III, LP.
|  | G | LECG Corporation.
|  | G | LECG Corporation.
| 20100011 | G | Prospect Acquisition Corp.
|  | G | William J. McMorrow.
|  | G | Kennedy-Wilson, Inc.
| 20100012 | G | Blackstone Capital Partners (Cayman III) V L.P.
|  | G | Jorge Paulo Lemann.
|  | G | Busch Entertainment Corporation.
| 20100013 | G | Blackstone Capital Partners (Cayman III) V L.P.
|  | G | Eugenie Path Sebastien EPS, SA.
|  | G | Busch Entertainment Corporation.
| 20100020 | G | Sanofi-Aventis.
|  | G | Fovea Pharmaceuticals, S.A.
|  | G | Fovea Pharmaceuticals, S.A.
| 20100030 | G | Berkshire Fund VII, L.P.
|  | G | GOBP Holdings, Inc.
|  | G | GOBP Holdings, Inc.
21-OCT-09 | 20090767 | G | Raytheon Company.
|  | G | BBN Technologies Holding Corp.
|  | G | BBN Technologies Holding Corp.
| 20090769 | G | Intuit Inc.
|  | G | Mint Software Inc.
|  | G | Mint Software Inc.
23-OCT-09 | 20100025 | G | Clayton, Dubilier & Rice Fund VIII, L.P.
|  | G | Appointive Distributing Trust B u/a Samuel Johnson, 1988 T#1.
|  | G | JohnsonDiversey Holdings, Inc.
| 20100036 | G | Emerson Electric Co.
|  | G | Avocent Corporation.
|  | G | Avocent Corporation.
26-OCT-09 | 20090788 | G | Oak Hill Capital Partners Ill, L.P.
|  | G | ODN Holding Corporation.
|  | G | ODN Holding Corporation.
| 20100022 | G | Macquarie Group Limited.
|  | G | Fox-Pitt Kelton Cochran Caronia, Waller LLC
|  | G | Fox-Pitt Kelton Cochran Caronia Waller LLC.
27-OCT-09 | 20100024 | G | GrainCorp Limited.
|  | G | United Malt Holdings LP.
|  | G | Malt U.K. Holdco Limited.
|  | G | Malt Luxco S.a.r.l.
|  | G | Malt U.S. Holdco, Inc.
| 20100037 | G | Iconix Brand Group, Inc.
|  | G | Seth Gerszberg.
|  | G | Yakira, L.L.C.
| 20100038 | G | Iconix Brand Group, Inc.
|  | G | Marc Ecko.
|  | G | Yakira, L.L.C.
| 20100041 | G | Macquarie Group Limited.
|  | G | Lincoln National Corporation.
|  | G | Delaware Management Holdings, Inc.
28-OCT-09 | 20090501 | G | AOl Bedding Super Holdings, LLC.
|  | G | Thomas H. Lee Equity Fund V, L.P.
|  | G | THL-SC Bedding Company.
| 20090691 | G | Bayer AG.
|  | G | Athenix Corp.
|  | G | Athenix Corp.
| 20090792 | G | Abbott Laboratories.
|  | G | Evalve, Inc.
|  | G | Evalve, Inc.
| 20100035 | G | ViaSat, Inc.
|  | G | WildBIue Holding, Inc.
|  | G | WildBlue Holding, Inc.
29-OCT-09 | 20090405 | G | Schering-Plough Corporation.
|  | G | Merck & Co., Inc.
|  | G | Merck & Co., Inc.

For Further Information Contact: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E9-27413 Filed 11-17-09; 8:45 am]

BILLING CODE 6750-01-M